DEPARTMENT OF LABOR

Employment and Training Administration

[TA-W-53,673]

S&S Distribution Center, a Subsidiary of Land N Sea Company, Inc., Roebuck, SC; Dismissal of Application for Reconsideration

Pursuant to 29 CFR 90.18(C) an application for administrative reconsideration was filed with the Director of the Division of Trade Adjustment Assistance for workers at S&S Distribution Center, a subsidiary of Land N Sea Company, Inc., Roebuck, South Carolina. The application contained no new substantial information which would bear importantly on the Department's determination. Therefore, dismissal of the application was issued.

TA-W-53,673; S&S Distribution Center, a Subsidiary of Land N Sea Company, Inc. Roebuck, South Carolina (March 5, 2004)

Signed at Washington, DC this 15th day of March, 2004.
Timothy Sullivan,
Director, Division of Trade Adjustment Assistance.

[FR Doc. 04-6544 Filed 3-23-04; 8:45 am]

BILLING CODE 4510-30-P